COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products to be furnished by nonprofit agencies employing persons who are blind or have other severe disabilities, and to delete products previously furnished by such agencies.

Comments Must Be Received On or Before: July 13, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited.

Commenters should identify the statement(s) underlying the certification on which they are providing additional information.

(End of Clause)

The following products are proposed for addition to Procurement List for production by the nonprofit agencies listed:

Products

Product/NSN: Candle

3″ × 3″ Pillar, Gardenia/M.R. 481

3″ × 3″ Pillar, Vanilla/M.R. 480

6″ × 3″ Pillar, Gardenia/M.R. 483

6″ × 3″ Pillar, Vanilla/M.R. 482

Jar, Lavender/M.R. 485

Jar, Vanilla/M.R. 484

NPA: South Texas Lighthouse for the Blind, Corpus Christi, Texas.

Contract Activity: Defense Commissary Agency (DeCA), Ft. Lee, Virginia.

Product/NSN: Pen, Gel Ink, Aristocrat,

7520-00-NIB-1461 (Black Ink),

7520-00-NIB-1481 (Blue Ink).

NPA: Industries of the Blind, Inc., Greensboro, North Carolina.

Contract Activity: Office Supplies & Paper Products Acquisition Center, New York, New York.

Product/NSN: Pen, Gel, Executive,

7520-00-NIB-1491.

NPA: West Texas Lighthouse for the Blind, San Angelo, Texas.

Contract Activity: Office Supplies & Paper Products Acquisition Center, New York, New York.

Deletions

Regulatory Flexibility Act Certification

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for deletion from the Procurement List.

(End of Clause)

The following products are proposed for deletion from the Procurement List:

Products

Product/NSN: Cleaning Compound/7930-01-373-8846

Product/NSN: Cleaning Compound/7930-01-373-8847

Product/NSN: Cleaning Compound/7930-01-373-8850

Product/NSN: Cleaning Compound/7930-01-398-0943

Product/NSN: Cleaning Compound/7930-01-398-0946

Product/NSN: Detergent, General Purpose/7930-00-515-2477

Product/NSN: Detergent, General Purpose/7930-00-526-2919

Product/NSN: Detergent, General Purpose/7930-00-526-2920

Product/NSN: Detergent, General Purpose/7930-00-527-1207

Product/NSN: Detergent, General Purpose/7930-00-527-1237

Product/NSN: Detergent, General Purpose/7930-00-530-8067

Product/NSN: Detergent, General Purpose/7930-00-985-6945

Product/NSN: Detergent, General Purpose/7930-00-985-6946

Product/NSN: Detergent, Laundry/7930-01-045-3515

Product/NSN: Detergent, Laundry/7930-01-045-3517

NPA: Lighthouse for the Blind, St. Louis, Missouri.

Contract Activity: GSA, Southwest Supply Center, Fort Worth, Texas.

Sheryl D. Kennerly,
Director, Information Management.

[FR Doc. 03-15023 Filed 6-12-03; 8:45 am]

BILLING CODE 6353-01-P